DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of October and November 2003.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a) (2) (B) both of the following must be satisfied:

A. A significant number or proportion of the workers in such workers' firm, or an appropriate subdivision of the firm, have become totally or partially separated, or are threatened to become totally or partially separated;

B. there has been a shift in production by such workers' firm or subdivision to a foreign county of articles like or directly competitive with articles which are produced by such firm or subdivision; and

C. One of the following must be satisfied:

1. The country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) either—

(A) the workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(Increased imports) and (a)(2)(B)(II.B) (No shift in production to a foreign country) have not been met.

TA-W-53,014; Pulaski Furniture Corp., Martinsville, VA

TA-W-53,030; Dayton Superior Corp., Miamisburg, OH

TA-W-52,974; Corning Photonics Technology, Corning Lasertron Div., a subsidiary of Corning, Inc., Bedford, MA

TA-W-53,094; Eastman Machine Co., Buffalo, NY

TA-W-53,101; The Heil Co., d/b/a Heil Trailer International, a wholly owned subsidiary of Dover Corp., Lancaster, PA

TA-W-53,136; Edgerton Forge, Inc., a subsidiary of Avis Industrial Corp., Edgerton, OH

TA-W-53,048; General Shoelace Co., Lincolnton, NC

TA-W-53,019; Thermal Engineering International Utility Products Div., Joplin, MO

TA-W-52,922; Curtis Fine Papers, Adams Mill, Adams, MA

TA-W-53,257; Waggon-Cellers, Inc., Amarillo, TX

TA-W-53,047; Martin Automatic, Inc., Rockford, IL

TA-W-52,536; Wintron Technologies, Video Display Corp/Div., Howard, PA

TA-W-52,826; Tomak Precision, Lebanon, OH

TA-W-53,135; Castle Rubber, LLC, East Butler, PA

TA-W-53,168; Allegheny Foundry Co., Bolivar, PA

TA-W-52,770; Tower Mills, Inc., Burlington, NC

TA-W-52,999; Ace Packaging Systems, a subsidiary of International Paper, Monroe Facility, Monroe, MI

TA-W-53,027; Sennett Steel Corp., Warren, MI

TA-W-52,995; Pressed Steel Tank Co, Inc., West Allis, WI

TA-W-52,502; Norwood Promotional Products, Sleepy Eye, MN

TA-W-52,702; Atlas Castings and Technology, Tacoma, WA

TA-W-53,170; Tex Tech Industries, North Monmouth, ME

TA-W-53,188; Caliendo Savio Enterprises, Inc., New Berlin, WI

TA-W-53,204; CDI Corp., Corvalis, OR

TA-W-53,217; Rexnord Industries, Inc., Coupling Div., New Berlin, WI

TA-W-52,893; R and J Seafood, Kasilof, AK

TA-W-52,988; Simplot Meat Products, Nampa, ID

TA-W-52,620; Corbin Russwin, Inc., Clarksdale, MS

TA-W-52,630; Ramatech, LLC, Belleville, MI

TA-W-52,881; Mohican Mills, Lincolnton, NC

TA-W-53,018; O.P. Link Handle Co., Inc., Salem Facility, Salem, IN

TA-W-52,941; Grede Foundries, Inc., Milwaukee Steel Foundry, Milwaukee, WI

The investigation revealed that criteria (a)(2)(A)(I.C) (increased imports) and (a)(2)(B)(II.C) (has shifted production to a foreign country) have not been met.

TA-W-53,001; Sartorius Environmental Technology, Inc., Dubuque, IA

TA-W-53,025; Invensys-Robertshaw, Long Beach, CA

TA-W-53,012; Nitram, Inc., Tampa, FL

TA-W-52,749; Akin Industries, Inc., Case Goods Div., Monticello, AR

The workers firm does not produce an article as required for certification under Section 222 of the Trade Act of 1974.

TA-W-52,818; Hewlett-Packard Co., Open VMS Data Protector Team, Colorado Springs, CO

TA-W-52,816; Litton Systems, Inc., Anaheim, CA

TA-W-53,058; Seagate Technology, LLC, Research and Development Div., Oklahoma City, OK

TA-W-52,821; Intel Corp., Colorado Springs, CO

TA-W-53,065; Red Devil, Inc., Union, NJ

TA-W-53,085; Joe Greene Design and Co., LLC, Hickory, NC

TA-W-53,093; The William Carter Co., Operations Div., Central Planning Department, Griffin, GA

TA-W-53,177; Agilent Technologies, Automated Test Group, EMT Support and Delivery, Loveland, CO

TA-W-53,209; Computer Sciences Corp., Financial Services Group (FSG), East Hartford, CT

TA-W-53,243; Crown Media International, d/b/a Hallmark Channel, a div. of Crown Media Holdings, Greenwood Village, CO

TA-W-52,990; Murata Machinery USA, Inc., Charlotte, NC

TA-W-52,820; Telemundo Network Group, LLC, Hialeah, FL

TA-W-53,348; Sampo Corp. of America, Fremont, CA

TA-W-53,078; Advanced Technical Resources, Sunnyvale, CA

TA-W-52,979; Conocophillips, Odessa, TX

TA-W-53,097; Phycomp\Yageo America, El Paso, TX

TA-W-53,052; Rohm and Hass Co., Corp. Headquarters, Accounts Payable Dept., Philadelphia, PA

TA-W-53,282; JP Morgan Chase Bank, Shared Application Delivery and Consulting Services Group, Houston, TX and Commercial Loan Technology Div., Houston, TX

TA-W-52,672; Intel Corp., Quality Program Engineering Managers, Hillsboro, OR

TA-W-53,103; Microdyne Outsourcing, Inc., a div. of L3 Communications, Torrance, CA

TA-W-53,061; Consul Risk Management, Inc., Acton, MA

TA-W-53,185; Lawson Software, Inc., St. Paul, MN

The investigation revealed that criterion (a)(2)(A)(I.A) (no employment decline) has not been met.

TA-W-53,172; Meadwestvaco Corp., Envelope Div., Enfield, CT

TA-W-53,036; ABA-PGT, Inc., Manchester, CT

TA-W-53,161; ATC Distribution Group, Formerly Aceomatic Recon, McKees Rocks, PA

TA-W-52,791; Rothtec Engraving Corp., Spartanburg, SC

The investigation revealed that criteria (a)(2)(A)(I.B) (Sales or production, or both, did not decline) and (a)(2)(B)(II.B) (has shifted production to a county not under the free trade agreement with U.S.) have not been met.

TA-W-52,841; Wheeling-Pittsburgh Steel Corp., Steubenville, OH

TA-W-53,138; Amhil Enterprises, Inc., Dickson, TN

TA-W-53,063; J.L. Williams Co., Inc., Nampa, ID

TA-W-52,870; Shell Exploration and Production Co., Houston, TX

TA-W-52,624-A; Shell Exploration and Production Co., Houston, TX and New Orleans, LA

TA-W-52,538; Custom Tool & Design, Inc., Erie, PA

The investigation revealed that criteria (2) has not been met. The workers firm (or subdivision) is not a supplier or downstream producer to trade-affected companies

TA-W-52,927; Railway Handle Corp., Kenbridge, VA

TA-W-52,907; Dyecraftsmen, Inc., Taunton, MA

Affirmative Determinations for Worker Adjustment Assistance

The following certifications have been issued; the date following the company name and location of each determination references the impact date for all workers of such determination.

The following certifications have been issued. The requirements of (a) (2) (A) (increased imports) of section 222 have been met.

TA-W-53,109; Hickory Throwing Co., Hickory, NC: September 29, 2002.

TA-W-53,117; Quality Investment Castings, Inc., Blandon, PA: September 23, 2002.

TA-W-52,876; Excel Finishing Cporp., Ridgewood, NY: September 8, 2002.

TA-W-53,142; Century Furniture Industries, Case Goods Div., a subsidiary of CV Industries, Hickory, NC: September 30,2002.

TA-W-53,144; Thos. Moser Cabinetmakers, Auburn, ME:September 23, 2002.

TA-W-52,993; Chas W. House and Sons, Unionville, CT: September 16, 2002.

TA-W-53,197; Annjon Dress Corp., New York, NY: October 8, 2002.

TA-W-53,129; Bayer Pharmaceuticals Corp., Pharmaceutical Div., West Haven, CT: October 1, 2002

TA-W-53,090; MBU, Inc., New York, NY: September 19, 2002.

TA-W-53,039 &A; Planar Systems, Inc., Beaverton, OR and Medical Business Unit, Waltham, MA: September 23, 2002.

TA-W-53,050; Sappi Fine Paper, Allentown Facility, Allentown, PA: September 29, 2002.

TA-W-53,276; H. Freeman & Son, Inc., Philadelphia, PA: October 3, 2002.

TA-W-52,954; Federal Mogul Corp., Wagner Lighting Div. including leased workers of Staffing Solutions, Sparta, TN: September 12, 2002.

TA-W-52,846; Brookman Cast Industries, Salem, OR: August 22, 2002.

TA-W-52,721; Cascade Fibers Co., Inc., Cascade Fibers Co of Sanford, LLC, including leased workers of Employer Options, LLC, Sanford, NC: August 28, 2002.

TA-W-53,235; Keith Dennis Co., LLC, Dandridge, TN: October 8, 2002.

TA-W-52,917; Hooven Allison, Xenia, OH: September 5, 2002.

TA-W-52,877; Sonoco Flexible Packaging, a div. of Sonoco Products Co., including leased workers of Workload, Inc., Fulton, NY: September 9, 2002.

TA-W-52,855; On Semiconductor, East Greenwich Div., including leased workers of Kelly Services, East Greenwich, RI: September 3, 2002.

TA-W-53,122; North Pacific Processors, Inc., Cordova, AK: September 3, 2002.

TA-W-53,128; Wilson Sporting Goods, Springfield, TN: October 1, 2002.

TA-W-53,031; Randco Tool and Die, Inc., Meadville, PA: September 12, 2002.

TA-W-53,007; Contempora Fabrics, Inc., Lumberton, NC: September 4, 2002.

TA-W-52,902; Buffalo China, Inc., Buffalo, NY: September 4, 2002.

TA-W-53,110; Zorlu Manufacturing Co., LLC, Warrenton, GA: September 24, 2002.

TA-W-53,015; Texas PMW, Inc., Pennsylvania Machine Works, Inc., Houston, TX: September 10, 2002

TA-W-53,028; BIC Corp., Lighters Div., Gaffney, SC: September 23, 2002

TA-W-52,924; Techneglas, Inc., Columbus, OH and Pittston, PA: October 20, 2003.

TA-W-52,925; SKF USA, Inc., Altoona Div., Altoona, PA: September 11, 2002.

TA-W-52,931; PCS Nitrogen Fertilizer, LP, a/k/a Memphis Plant, a div. of Potash Corp., Millington, TN: September 2, 2002.

TA-W-52,944; Chiquola Fabrics, LLC, Kingsport, TN: September 15, 2002

TA-W-52,973; Cortina Fabrics, Swepsonville, NC: September 24, 2002.

TA-W-52,983; Escod Industries, Inc., BKB, Inc., Insilso Technologies, North Myrtle Beach, SC: September 16, 2002.

TA-W-52,768; Titan Plastics Group, Portage, MI: August 27, 2002.

TA-W-52,874; PMW Illinois, Inc., Pennsylvania Machine Works, Inc., Carlinville, IL: September 10, 2002.

TA-W-52,858; Wetsel-Oviatt Lumber Co., El Dorado Hills, CA: August 25, 2002.

TA-W-52,796; Halliburton Energy Services, Alaska Operations, Prudhoe Bay, AK, A; Sterling, AK, B; Fairbanks, AK and C; Anchorage, AK: September 2, 2002.

TA-W-52,786; Excelsior Foundry Co., Belleville, IL: August 21, 2002.

TA-W-53,022; Ideal Forging Corp., Southington, CT: September 24, 2002.

TA-W-53,042; Solon Manufacturing Co., Rhinelander, WI: September 24, 2002.

TA-W-52,863; Thantex Specialties, Inc., Abbeville, SC: August 27, 2002

TA-W-52,565; Johns Manville Corp., Engineered Products Group, Vienna, VA: August 8, 2002

TA-W-52,762; TT Group, Inc., a wholly owned subsidiary of TT Group, LTD, Aurora, MO: August 29, 2002.

TA-W-52,792; RST&B Curtain and Drapery, Woodruff, SC: September 2, 2002.

TA-W-52,572; Allsteel, Inc., a div. of Hon Industries, West Hazleton, PA: August 14, 2002.

TA-W-52,664; Slater Steel Corp., a wholly owned subsidiary of Slater Steel, Inc., Fort Wayne, IN: April 7, 2003.

TA-W-52,793; Milligan and Higgins, a div. of Hudson Industries Corp., Johnstown, NY: September 2, 2002.

TA-W-52,573; Gentry Mills, Inc., Albemarle, NC: August 11, 2002.

TA-W-52,603; Sierra Pine Ltd, Medite Div., Medford, OR: August 18, 2002.

TA-W-53,141; Atlas Model Railroad Co., Inc., Hillside, NJ: October 2, 2002.

TA-W-53,238; West Linn Paper Co., West Linn, OR: October 7, 2002.

TA-W-53,151; Cole Hersee Co., Boston, MA: October 3, 2002.

TA-W-53,160; Biddle Precision Components, Sheridan, IN: September 10, 2002.

TA-W-53,127; Ault, Inc., Minneapolis, MN: October 2, 2002.

TA-W-53, 189; Campbell Foundry Co., Harrison, NJ: October 7, 2002.

TA-W-52,773; Lebanite Corp., Hardboard Div., Lebanon, OR: November 1, 2002.

TA-W-52,650; PPG Industries, Fiber Glass Div., Lexington, NC: July 26, 2002.

TA-W-52,961; IPAC Fabrics, Inc., a subsidiary of Industrial Polymers and Chemicals, Inc., Lewiston, ME: September 5, 2002.

TA-W-52,882; APW, Inc., Erie, PA: September 19, 2002.

TA-W-52,887; Connie Rose Manufacturing, Inc., Philadelphia, PA: September 17, 2002.

TA-W-53,240; Friedrich Air Conditioning Co., San Antonio, TX: September 30, 2002.

TA-W-52,834; The Safety Stitch, Inc., Harrisville, WV: August 22, 2002.

TA-W-52,623; Five Rivers Electronic Innovations, LLC, Greeneville, TN: August 15, 2002.

TA-W-52,654; Current Industries, Inc., Bellingham, WA: August 5, 2002.

TA-W-53,281; American Marketing Industries, Inc., Dunbrooke Div., Independence, MO: October 15, 2002.

TA-W-52,994; The Scotts Co., Temecula operation, including leased workers of Manpower and Remedy, Temecula, CA: September 5, 2002.

TA-W-52,919; The Keller Manufacturing Co., Inc., Furniture Manufacturing Div., Corydon, IN: September 5, 2002.

TA-W-52,490; Vernon Plastics, a wholly owned subsidiary of The Imperial Home Décor Group, including leased workers from Agentry, Haverhill, MA: August 7, 2002.

TA-W-52,609; Coastal Lumber Co., Bruceton Mills, WV: August 13, 2002.

TA-W-52,783; Crystal Creative Products, a div. of Cleo, Inc., Maysville, KY: August 20, 2002.

TA-W-52,700; Circuit Science, Inc., Plymouth, MN: August 27, 2002.

TA-W-52,688A; Howes Leather Corp., Clearfield Whole Leather Div., Curwensville, PA: September 25, 2003.

The following certifications have been issued. The requirements of (a) (2) (B) (shift in production) of section 222 have been met.

TA-W-52,951; T & W Forge, Inc., Div. of Durrell Corp., Alliance, OH: August 29, 2002.

TA-W-52,982; Glaxo Smith Kline Pharmaceuticals, Piscataway, NJ: October 18, 2003.

TA-W-53,010; New Generation Yarn Corp., Gibsonville, NC: September 15, 2002.

TA-W-53,227; Voith Paper, Voith Paper Service Southeast Div., Salisbury, NC: October 13, 2002.

TA-W-53,105; American & Efird, Inc., Mainden Facility, a div. of The Ruddick Corp., Mt. Holly, NC: October 1, 2002.

TA-W-53,187; Harriet and Henderson Yarns, Inc., Corp. Office, Henderson, NC: October 4, 2002.

TA-W-53,143; Erni Components, Inc., Chester, VA: September 30, 2002.

TA-W-53,002; Akzo Nobel Coatings, Inc., Carney's Point, NJ: September 5, 2002.

TA-W-52,891; C.O.W. Industries, Inc., including leased workers of CBS Companies, Columbus, OH: September 22, 2002.

TA-W-53,166; Arvin Meritor, Inc., Chickasha, OK: October 1, 2002.

TA-W-52,929; Kaydon Corp., Sumter, SC: September 15, 2002.

TA-W-53,261; International Stone Products, Inc., Barre, VT: October 3, 2002.

TA-W-52,831; SPX Dock Products, Mechanical Dock Lever Div., Carrollton, TX: September 3, 2002.

TA-W-53,133; Charlotte Trimming Co., Charlotte, NC: October 1, 2002.

TA-W-52,914; Gates Corp., Power Transmission Div., Belt Plant, Elizabethtown, KY: September 10, 2002.

TA-W-52,866; Dyno Nobel, Port Ewen Plant, Charge and Press Department, Ulster Park, NY: August 9, 2002.

TA-W-53,056; Toshiba America Information Systems, Inc. (TAIA), a subsidiary of Toshiba America, Inc., a subsidiary of Toshiba Corp., Irvine, CA: September 26, 2002.

TA-W-52,997; Fishing Vessel (F/V) Valeta H. Point Baker, AK: September 23, 2002.

TA-W-53,214; Rhodia, Inc., Chicago Heights, IL: September 22, 2002.

TA-W-53,286; Elox Corp., a div. of Agie Charmilles Holding Corp., Davidson, NC: October 17, 2002.

TA-W-52,904; York International Corp., York, PA: September 9, 2002.

TA-W-52,844; 4 D's Industries, Tellico Plains, TN: September 4, 2002.

TA-W-53,304; Molecular Bioproducts, Inc., Quality Scientific Plastics, Inc., Petaluma, CA: September 24, 2002.

TA-W-53,017; Sunbeam Products, Inc., Hattiesburg, MS: September 23, 2002.

TA-W-52,976; Upholstery Fabric Mill of Georgia, Inc., Jasper, GA: September 19, 2002.

TA-W-52,934; Lego Systems, Inc., Shows and Events Div., Enfield, CT: September 26, 2002.

TA-W-52,940; Motor Coach Industries International, Inc., Roswell, NM: September 14, 2002.

TA-W-53,239; Acme Mills Co., Fairway Products, Quincy, MI: September 26, 2002.

TA-W-53,199; Eudora Garments Corp., Eudora, AR: October 3, 2002.

TA-W-53,163; Zapata Industries, Inc., Muskogee, OK: October 3, 2002.

TA-W-52,998; Saint-Gobain Calmar, Inc., City of Industry, CA: September 25, 2002.

TA-W-52,991; Select Elastics of America, Inc., McAllen, TX: September 22, 2002.

TA-W-52,964; Phelps Dodge Mining Co., Tyrone Mining, LLC, Tyrone, NM: September 3, 2002.

TA-W-52,880; Dayton Superior Corp., Birmingham, AL: September 18, 2002.

TA-W-53,081; Robert Manufacturing Co., Rancho Cucamonga, CA: September 8, 2002.

TA-W-53,038; Coats and Clark, Inc., Toccoa, GA: September 26, 2002.

TA-W-53,043; Honeywell Airframe Systems, Torrance, CA: September 26, 2002.

TA-W-53,004; Xerox Corp., Business Group Operations (BGO), Webster, NY: September 15, 2002.

TA-W-52,718; I.T.W. Foils, East Brunswick, NJ: August 21, 2002.

TA-W-52,722; Conso International Corp., Union, SC: August 29, 2002

TA-W-52,754; ACS Industries, Inc., Villanova Plant, Woonsocket, RI: August 20, 2002.

TA-W-52,813; Eastman Kodak Co., HISIS Finishing Department B-313, Rochester, NY: September 2, 2002.

TA-W-52,853; Trenton Technology, Inc., Utica, NY: September 4, 2002.

TA-W-52,575; Volex, Inc., including leased workers of Accuforce, Manpower and Foothills, Conover, NC: August 13, 2002.

TA-W-52,631; Northland, A Scott Fetzer Co., Watertown, NY: August 12, 2002.

TA-W-52,649; Tellabs Operations, Inc., Bolingbrook, IL: August 19, 2002.

TA-W-52,655; Takata Petri, Inc., a subsidiary of TK Holdings, Port Huron, MI: August 22, 2002.

TA-W-52,862; Paxar Corp., Fabric Label Group, Lenoir, NC: August 26, 2002.

TA-W-53,165; Thermal Ceramics, RPC, Elgin, IL: October 1, 2002.

TA-W-53,108; The Hon Co., Chair Department, including leased workers of Corestaff and Kimco, South Gate, CA: September 22, 2002.

TA-W-53,125; Ranco North America, Invensys Climate Controls Div., including leased workers of Manpower, Link and Select, Brownsville, TX: September 23, 2002.

TA-W-53,073; OK-1 Manufacturing Co., Inc., Altus, OK: September 26, 2002.

TA-W-52,955; Andritz, Inc., Muncy Plant #2, a subsidiary of Andritz AG, Muncy, PA: September 5, 2002.

TA-W-52,986; Alcoa Fujikura Ltd, Telecommunications Div., Duncan, SC: September 15, 2002.

TA-W-53,212 & A; Heraeus Quartztech, LLC, a subsidiary of Heraeus Holding GMBH, Austin, TX and Round Rock, TX: October 8, 2002.

TA-W-53,186; Arlon, Inc., Engineered Coatings & Laminates Div., East Providence, RI: September 29, 2002.

TA-W-53,155; Brazeway, Inc., Brazeway DeWitt Div., including leased workers of Talent Tree, DeWitt, IA: October 6, 2002.

TA-W-53,005; Canton Drop Forge, Canton, OH: September 12, 2002.

TA-W-52,889; Fox River Paper Co., Appleton, WI: September 18, 2002.

TA-W-52,864; Cooper-Atkins Corp., Middlefield, CT: August 19, 2002.

TA-W-53,003; Honeywell International, Inc., Automation and Control Solutions Div., including leased workers of Manpower, Albuquerque, NM: September 18, 2002.

TA-W-52,929; Kaydon Corp., Sumter, SC: September 15, 2002.

TA-W-52,831; SPX Dock Products, Mechanical Dock Lever Div., Carrollton, TX: September 3, 2002.

TA-W-53,187; Harriet and Henderson Yarns, Inc., Corp. Office, Henderson, NC: October 4, 2002.

TA-W-52,647; PACCAR, Inc., a div. of Peterbilt Motors, Madison, TN: August 18, 2002.

TA-W-52,959; Maxxim Medical, Inc., Honea Path, SC: September 19, 2002.

TA-W-52,840; Merit Abrasive Products, Brookline, Ohio Division, Brookline, OH: August 18, 2002.

TA-W-52,794; Practice Partner, Inc., Goldsboro, NC: September 3, 2002.

TA-W-52,720; Amphenol T&M Antennas, Vernon Hills, IL: August 28, 2002

TA-W-52,857; Hart Tackle Company, LLC, Starford, OK: August 22, 2002.

TA-W-52,688; Howes Leather Corp., Currwensville and Cutting Div., Curwensville, PA: September 25, 2003.

TA-W-52,984; Samina-SCI, Cable Div., including leased workers of On-Point Personnel and Employee Solutions, Carrollton, TX: September 17, 2002.

TA-W-53,034; C&C Smith Lumber Co., Inc., Summerhill, PA: August 28, 2002.

TA-W-52,872; Beckton Dickinson and Co., Consumer Healthcare Div., Holdrege, NE: September 11, 2002.

TA-W-53,221; Intermetro Industries, a div. of Emerson Electric, Wilkes-Barre, PA: November 6, 2003.

The following certification has been issued. The requirement of upstream supplier to a trade certified primary firm has been met.

TA-W-53,011; General Dynamics, Mosses Lake, WA: September 24, 2002.

TA-W-53,126; Siemens Energy and Automation, Inc., Machine Tool Business Unit, Lebanon, OH: September 23, 2002.

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)3)ii) have not been met for the reasons specified.

Since the workers are denied eligibility to apply for TAA, the workers cannot be certified eligible for ATAA.

TA-W-53,135; Castle Rubber, LLC, East Butler, PA

TA-W-53,168; Allegheny Foundry Co., Bolivar, PA

TA-W-52,770; Tower Mills, Inc., Bulington, NC

TA-W-52,791; Rothtec Engraving Corp., Spartanburg, SC

TA-W-52,999; ACE Packaging Systems, a subsidiary of International Paper, Monroe Facility, Monroe, MI

TA-W-53,027; Sennett Steel Corp., Warren, MI

TA-W-53,052; Rohm and Hass Co., Corp. Headquarters, Accounts Payable Department, Philadelphia, PA

TA-W-53,138; Amhil Enterprises, Inc., Dickson, TN

TA-W-53,282 &A; JP Morgan Chase Bank, Shared Application Delivery and Consulting Services Group, Houston, TX and Commercial Loan Technology Div., Houston, TX

TA-W-52,995; Pressed Steel Tank Co., Inc., West Allis, WI

TA-W-52,502; Norwood Promotional Products Sleepy Eye, MN

TA-W-52,672; Intel Corp., Quality Program Engineering Managers, Hillsboro, OR

TA-W-52,702; Atlas Castings and Technology, Tacoma, WA

TA-W-53,103; Microdyne Outsourcing, Inc., a div. of L3 Communications, Torrance, CA

TA-W-53,170; Tex Tech Industries, North Monmouth, ME

TA-W-53,188; Caliendo Savio Enterprises, Inc., New Berlin, WI

TA-W-53,204; CDI Corp., Corvalis, OR

TA-W-53,217; Rexnord Industries, Inc., Coupling Div., New Berlin, WI

TA-W-53,061; Consul Risk Management, Inc., Acton, MA

TA-W-53,063; J.L. Williams Co., Inc., Nampa, ID

TA-W-52,870; Shell Exploration and Production Co., Houston, TX

TA-W-52,893; R and J Seafood, Kasilof, AK

TA-W-52,907; Dyecraftsmen, Inc., Taunton, MA

TA-W-52,988; Simplot Meat Products, Nampa, ID

TA-W-52,624 & A; Shell Exploration and Production Co., Houston, TX and New Orleans, LA

TA-W-52,749; Akin Industries, Inc., Case Goods Div., Monticello, AR

TA-W-52,620; Corbin Russwin, Inc., Clarksdale, MS

TA-W-52,630; Ramatech, LLC, Belleville, MI

TA-W-52,881; Mohican Mills, Lincolnton, NC

TA-W-53,018; O.P. Link Handle Co., Inc., Salem Facility, Salem, IN

TA-W-53,185; Lawson Software, Inc., St. Paul, MN

TA-W-52,941; Grede Foundries, Inc., Milwaukee Steel Foundry, Milwaukee, WI

Affirmative Determinations for Alternative Trade Ajdustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-53,304; Molecular Bioproducts, Inc., Quality Scientific Plastics, Inc., Petaluma, CA: September 24, 2002.

TA-W-53,122; North Pacific Processors, Inc., Cordova, AK: September 3, 2002.

TA-W-53,128; Wilson Sporting Goods, Springfield, TN: October 1, 2002.

TA-W-53,017; Sunbeam Products, Inc., Hattiesburg, MS: September 23, 2002.

TA-W-53,031; Randco Tool and Die, Inc., Meadville, PA: September 12, 2002.

TA-W-53,105; American & Efird, Inc., Maiden Facility, a div. of The Ruddick Corp., Mt. Holly, NC: October 1, 2002.

TA-W-53,007; Contempora Fabrics, Inc. Lumberton, NC: September 4, 2002.

TA-W-52,976; Upholstery Fabric Mill of Georgia, Inc., Jasper, GA: September 19, 2002.2002.

TA-W-52,902; Buffalo China, Inc., Buffalo, NY: September 4, 2002.

TA-W-52,934; Lego Systems, Inc., Shows and Events Div., Enfield, CT: September 26, 2002.

TA-W-52,940; Motor Coach Industries International, Inc., Roswell, NM: September 14, 2002.

TA-W-53,239; Acme Mills Co., Fairway Products, Quincy, MI: September 26, 2002.

TA-W-53,163; Zapata Industries, Inc., Muskogee, OK: October 3, 2002.

TA-W-53,110; Zorlu Manufacturing Co., LLC, Warrenton, GA: September 24, 2002.

TA-W-53,015; Texas PMW, Inc., Pennsylvania Machine Works, Inc., Houston, TX: September 10, 2002.

TA-W-53,028; Bic Corp., Lighters Div., Gaffney, SC:September 23, 2002.

TA-W-52,998; Saint-Gobain Calmar, Inc., City of Industry, CA: September 25, 2002.

TA-W-52,991; Select Elastics of America, Inc., McAllen, TX: September 22, 2002.

TA-W-52,924 A; Techneglas, Inc., Columbus, OH and Pittston, PA: October 20, 2003.

TA-W-52,925; SKF USA, Inc., Altoona, PA: September 11, 2002.

TA-W-52,931; PCS Nitrogen Fertilizer, LP, a/k/a Memphis Plant, a div. of Potash Corp., Millington, TN: September 2, 2002.

TA-W-52,944; Chiquola Fabrics, LLC, Kingsport, TN: September 15, 2002.

TA-W-52,964; Phelps Dodge Mining Co., Tyrone Mining, LLC, Tyrone, NM: September 3, 2002.

TA-W-52,973; Cortina Fabrics, Swepsonville, NC: September 24, 2002.

TA-W-52,983; Escod Industries, Inc., BKB, Inc., Insilso Technologies, North Myrtle Beach, SC: September 16, 2002.

TA-W-52,768; Titan Plastics Group, Portage, MI: August 27, 2002.

TA-W-52,874; PMW Illinois, Inc. Pennsylvania Machine Works, Inc., Carlinville, IL: September 10, 2002.

TA-W-52,880; Dayton Superior Corp., Birmingham, AL: September 18, 2002.

TA-W-52,858; Wetsel-Oviatt Lumber Company, El Dorado Hills, CA: August 25, 2002.

TA-W-52,796, A,B,C; Halliburton Energy Services, Alaska Operations, Prudhoe Bay, AK, Sterling, AK, Fairbanks, AK and Anchorage, AK: September 2, 2002.

TA-W-52,786; Excelsior Foundry Co., Belleville, IL: August 21, 2002.

TA-W-53,081; Robert Manufacturing Co., Rancho Cucamonga, CA: September 8, 2002.

TA-W-53,011; General Dynamics, Mosses Lake, WA: September 24, 2002.

TA-W-53,022; Ideal Forging Corp., Southington, CT: September 24, 2002.

TA-W-53,038; Coats and Clark, Inc., Toccoa, GA: September 26, 2002.

TA-W-53,042; Solon Manufacturing Co., Rhinelander, WI: September 24, 2002.

TA-W-53,043; Honeywell Airframe Systems, Torrance, CA: September 26, 2002.

TA-W-53,004; Xerox Corp., Business Group Operations (BGO), Webster, NY: September 15, 2002.

TA-W-52,863; Thantex Specialties, Inc., Abbeville, SC: August 27, 2002.

TA-W-52,565; Johns Manville Corp., Engineered Products Group, Vienna, VA: August 8, 2002.

TA-W-52,718; I.T.W. Foils, East Burnswick, NJ: August 21, 2002.

TA-W-52,722; Conso International Corp., Union, SC: August 29, 2002.

TA-W-52,754; ACS Industries, Inc., Villanova Plant, Woonsocket, RI: August 20, 2002.

TA-W-52,762; TT Group, Inc., a wholly owned subsidiary of TT Group, Ltd, Aurora, MO: August 29, 2002.

TA-W-52,792; RST&B Curtain and Drapery, Woodruff, SC: September 2, 2002.

TA-W-52,813; Eastman Kodak Co., HISIS Finishing Department B-313, Rochester, NY: September 2, 2002.

TA-W-52,853; Trenton Technology, Inc., Utica, NY: September 4, 2002.

TA-W-52,572; Allsteel, Inc., a div. of Hon Industries, West Hazleton, PA: August 14, 2002.

TA-W-52,575; Volex, Inc., including leased workers of Accuforce, Manpower and Foothills, Conover, NC: August 13, 2002.

TA-W-52,631; Northland, a Scott Fetzer Co., Watertown, NY: August 12, 2002.

TA-W-52,649; Tellabs Operations, Inc., Bolingbrook, IL: August 19, 2002.

TA-W-52,655; Takata Petri, Inc., a subsidiary of TK Holdings, Port Huron, MI: August 22, 2002.

TA-W-52,664; Slater Steel Corp., a wholly owned subsidiary of Slater Steel, Inc., Fort Wayne, IN: April 7, 2003.

TA-W-52,688; Howes Leather Corp., Curwensville and Cutting Div., Curwensville, PA and Clearfield Whole Leather Div., Curwensville, PA: September 25, 2003.

TA-W-52,793; Milligan and Higgins, a div. of Hudson Industries Corp., Johnstown, NY: September 2, 2002.

TA-W-52,862; Paxar Corp., Fabric Label Group, Lenoir, NC: August 26, 2002.

TA-W-52,573; Gentry Mills, Inc., Albemarle, NC: August 11, 2002.

TA-W-52,603; Sierra Pine Ltd, Medite Div., Medford, OR: August 18, 2002.

TA-W-53,141; Atlas Model Railroad Co., Inc., Hillside, NJ: October 2, 2002.

TA-W-53,238; West Linn Paper Co., West Linn, OR: October 7, 2002.

TA-W-53,151; Cole Hersee Co., Boston, MA: October 3, 2002.

TA-W-53,160; Biddle Precision Components, Sheridan, IN: September 10, 2002.

TA-W-53,165; Thermal Ceramics, RPC, Elgin, IL: October 1, 2002.

TA-W-53,108; The Hon Co., Chair Department including leased workers of Corestaff and Kimco, South Gate, CA: September 22, 2002.

TA-W-53,125; Ranco North America, Invensys Climate Controls Div., including leased workers of Manpower, Link, and Select, Brownsville, TX: September 23, 2002.

TA-W-53,126; Siemens Energy and Automation, Inc., Machine Tool Business Unit, Lebanon, OH: September 23, 2002.

TA-W-53,127; Ault, Inc., Minneapolis, MN: October 2, 2002.

TA-W-53,073; OK-1 Manufacturing Co., Inc., Altus, OK: September 26, 2002.

TA-W-52,955; Andritz, Inc., Muncy Plant #2, a subsidiary of Andritz AG, Muncy, PA: September 5, 2002.

TA-W-52,986; Alcoa Fujikura Ltd, Telecommunications Div., Duncan, SC: September 15, 2002.

TA-W-53,189; Campbell Foundry Co., Harrison, NJ: October 7, 2002.

TA-W-53,212&A; Heraeus Quartztech, LLC, a subsidiary Heraeus Holding GMBH, Austin, TX and Round Rock, TX: October 8, 2002.

TA-W-53,186; Arlon, Inc., Engineered Coatings and Laminates Div., East Providence, RI: September 29, 2002.

TA-W-53,155; Brazeway, Inc., Brazeway Dewitt Div., including leased workers of Talent Tree, DeWitt, IA: October 6, 2002.

TA-W-52,967; Stoneridge, Inc., Alphabet Div., Mebane, NC: September 20, 2002.

TA-W-52,773; Lebanite Corp., Hardboard Div., Lebanon, OR: November 1, 2002.

TA-W-52,650; PPG Industries, Fiber Glass Division, Lexington, NC: July 26, 2002.

TA-W-53,005; Canton Drop Forge, Canton, OH: September 12, 2002.

TA-W-52,961; IPAC Fabrics, Inc., a subsidiary of Industrial Polymers and Chemicals, Inc., Lewiston, ME: September 5, 2002.

TA-W-52,882; APW, Inc., Erie, PA: September 19, 2002.

TA-W-52,887; Connie Rose Manufacturing, Inc., Philadelphia, PA: September 17, 2002.

TA-W-52,889; Fox River Paper Co., Appleton, WI: September 18, 2002.

TA-W-52,864; Cooper-Atkins Corp., Middlefield, CT: August 19, 2002.

TA-W-53,240; Friedrich Air Conditioning Co., San Antonio, TX: September 30, 2002.

TA-W-52,834; The Safety Stitch, Inc., Harrisville, WV: August 22, 2002.

I hereby certify that the aforementioned determinations were issued during the months of October and November. Copies of these determinations are available for inspection in Room C-5311, U.S. Department of Labor, 200 Constitution Avenue, NW., Washington, DC 20210 during normal business hours or will be mailed to persons who write to the above address.

Dated: November 14, 2003.
Timothy Sullivan,
Director, Division of Trade Adjustment Assistance.

[FR Doc. 03-29680 Filed 11-26-03; 8:45 am]

BILLING CODE 4510-30-P